DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: Comments on the petitions must be received by the Off ice of Standards, Regulations, and Variances on or before September 14, 2007.

ADDRESSES: You may submit your comments, identified by “docket number” on the subject line, by any of the following methods:

1. E-Mail: Standards-Petitions@dol.gov.

2. Telefax: 1-202-693-9441.

3. Hand Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-043-C.

Petitioner: Consolidation Coal Company, 1800 Washington Road, Pittsburgh, Pennsylvania 15241.

Mine: Robinson Run Mine #95, MSHA I.D. No. 46-01318, located in Harrison County, West Virginia.

Regulation Affected: 30 CFR 75.503 (Permissible electric face equipment; maintenance) and 30 CFR 18.35 (Portable (trailing) cables and cords).

Modification Request: The petitioner requests a modification of the existing standard to permit the maximum length of trailing cables supplying power to permissible equipment used in continuous mining sections to be increased to 1,000 feet. The petitioner states that: (1) The trailing cables will be used only to supply three-phase, 575-volt power to loading machines, shuttle cars, roof bolters (longwall and section), section ventilation fans and de-gas drills; (2) the trailing cables will not be smaller than # 2 American Wire Gauge (AWG) and the trailing cables for the roof bolter will not be smaller than # 4 AWG; (3) all circuit breakers used to protect # 2 AWG trailing cables exceeding 700 feet in length will have instantaneous trip units calibrated to trip at 800 amperes; (4) the trip setting of the circuit breakers will be sealed or locked and will have permanent and maintained legible labels; (5) each label will identify the circuit breaker as being suitable for protecting # 2 AWG cables; (6) the circuit breakers used to protect # 4 AWG trailing cables exceeding 600 feet in length will have instantaneous trip units calibrated to trip at 500 amperes and the trip setting of the circuit breakers will be sealed or locked and will have permanent and maintained legible labels; (7) each label will identify the circuit breaker as being suitable for protecting # 4 AWG cables; and (8) replacement instantaneous trip units used to protect # 4 AWG trailing cables will be calibrated to trip at 500 amperes and will be sealed and locked. The petitioner has listed specific additional procedures in this petition that will be used to comply with the proposed alternative method. Individuals may review a complete description of the procedures at the MSHA address listed in this notice. The petitioner asserts that the proposed alternative method would provide at least the same measure of protection as the existing standard.

Docket Number: M-2007-044-C.

Petitioner: C.W. Mining Company, P.O. Box 300, Huntington, Utah 84528.

Mine: Bear Canyon No. 4 Mine, MSHA I.D. No. 42-02335, located in Emery County, Utah.

Regulation Affected: 30 CFR 75.350 (Belt air course ventilation).

Modification Request: The petitioner requests a modification of the existing standard to permit the belt-haulage entry to be used as the return entry during two-entry longwall panel development and as an intake entry to provide additional face ventilation during longwall panel retreat mining. The petitioner states that an atmospheric monitoring system (AMS) for early warning fire detection will be utilized throughout the two-entry system and all sensors that are part of the AMS will be diesel-discriminating (carbon monoxide and nitric oxide) sensors. The petitioner has listed specific additional procedures in this petition that will be used to comply with the proposed alternative method. Individuals may review a complete description of the procedures at the MSHA address listed in this notice. The petitioner asserts that the petitioned-for method will at all times guarantee no less than the same measure of protection afforded by 30 CFR 75.350, and that application of the existing standard will result in a diminution of safety to the miners.

Docket Number: M-2007-045-C.

Petitioner: Alpha & Omega Coal Company, LLC, Drawer 887, Louisa, Kentucky 41230.

Mine: No. 2 Deep Mine, MSHA I.D. No. 46-09187, located in Mingo County, West Virginia.

Regulation Affected: 30 CFR 75.1002 (Installation of electric equipment and conductors; permissibility).

Modification Request: The petitioner requests a modification of the existing standard to permit the use of 2, 400-volt AC-powered continuous mining equipment at the No. 2 Deep Mine. The petitioner asserts that the proposed alternative method would provide at least the same measure of protection as the existing standard.

Docket Number: M-2007-046-C.

Petitioner: Twentymile Coal Company, Three Gateway Center, Suite 1340, 401 Liberty Avenue, Pittsburgh, Pennsylvania 15222.

Mine: Foidel Creek Mine, MSHA I.D. No. 05-03836, located in Routt County, Colorado.

Regulation Affected: 30 CFR 75.335(c) (Construction of seals).

Modification Request: The petitioner requests a modification of the existing standard to permit an alternative method of compliance with the prohibition against welding, cutting, or soldering on the longwall face equipment within 150 feet of seals. The petitioner states that: (1) Prior to welding or cutting activity on the longwall face within 150 feet of seals, the ventilation plan will be reviewed with the person(s) involved in such welding or cutting; (2) welding, cutting, or soldering with arc or flame will be done under the supervision of a qualified person who will make a diligent search for fire during and after such operations and shall continuously test for methane with means approved by the Secretary immediately before and during such operations; (3) welding, cutting, or soldering will not be conducted in air that contains 1.0 volume per centum or more of methane; (4) the area will be wet or rock dusted, and additional rock dust or suitable fire extinguishers will be immediately available during such welding or cutting; (5) prior to welding and cutting, a determination will be made concerning the presence of ventilation quantities and velocities specified in the ventilation plan; (6) prior to welding and cutting, a qualified person will examine the area for methane as well as the area towards the closest seal to the area, for a distance that can be traveled safely; and (7) if methane is detected above 1.0 percent at any location during examination, cutting, welding, or soldering on the longwall face or in the tailgate area will be not be permitted. The petitioner asserts that the proposed alternative method would provide an equal measure of protection as that provided by the existing standard.

Docket Number: M-2007-047-C.

Petitioner: Blue Diamond Coal Company, P.O. Box 47, Slemp, Kentucky 41763.

Mine: Mine # 77, MSHA I.D. No. 15-09636, located in Perry County, Kentucky.

Regulation Affected: 30 CFR 75.364(b)(2) (Weekly examination).

Modification Request: The petitioner requests a modification of the existing standard to permit check points (examination points) for air volume and quality to be established in two locations of the Alwest 2 Mains due to poor roof conditions that prevent foot travel through the affected area of the mine. The petitioner proposes to establish evaluation points at certain points to evaluate airflow entering the Alwest 2 Mains and exiting the Alwest 2 Mains. The petitioner also proposes to establish ventilation check points between certain breaks of the Alwest 2 Main. The petitioner states that due to the adverse roof conditions and the distance from active works, it is impractical to expose personnel to traveling the affected area. The petitioner describes additional safety precautions, such as signage and establishing and monitoring air measurement stations, at locations that would allow a certified person to effectively evaluate ventilation in the affected area of the mine. The petitioner has listed specific additional procedures in this petition that will be used to comply with the proposed alternative method. Individuals may review a complete description of the procedures at the MSHA address listed in this notice. The petitioner asserts that the proposed alternative method will at all times guarantee no less than the same measure of protection afforded by the existing standard.

Docket Number: M-2007-048-C.

Petitioner: Paramont Coal Company Virginia, LLC, 2333 Alumni Park Plaza, Suite 310, Lexington, Kentucky.

Mine: Deep Mine # 26, MSHA I.D. No. 44-06929, located in Wise County, Virginia.

Regulation Affected: 30 CFR 75.1909(b)(6) ( Nonpermissible diesel-powered equipment; design and performance requirements).

Modification Request: The petitioner requests a modification of the existing standard to permit the use of a Getman Roadbuilder, Model RDG-1504, and Serial Number 6946. The petitioner proposes to: (1) Operate one Getman Roadbuilder without front brakes as originally designed; (2) train grader operators to lower the moldboard to provide additional stopping capability in emergency situations; (3) train operators to recognize the appropriate speeds to use on different roadway conditions; and (4) limit the maximum speed to 10 miles per hour. The petitioner states that: (1) The Roadbuilder has six wheels and a braking system on the four rear wheels; (2) the weight distribution over the four back wheels and the machine's braking system is adequate to stop the machine; and (3) the safety of the miners will not be compromised. The petitioner asserts that the design of the Getman Roadbuilder guarantees no less than the same measure of protection afforded by the existing standard.

Docket Number: M-2007-007-M.

Petitioner: Phelps Dodge Safford, Inc., 1124 W. Thatcher Blvd., Suite 202, Safford, Arizona 85546.

Mine: Safford Mine, MSHA I.D. No. 02-00299, located in Graham County, Arizona.

Regulation Affected: 30 CFR 56.6309(b) (Fuel oil requirements for ANFO).

Modification Request: The petitioner requests a modification of the existing standard to permit the use of used petroleum-based, lubrication oil from diesel equipment (recycled oil) for blending with diesel fuel and conventional prills to create ammonium nitrate-fuel oil (ANFO). The petitioner has listed specific additional procedures in this petition that will be used to comply with the proposed alternative method. Individuals may review a complete description of the procedures at the MSHA address listed in this notice. The petitioner asserts that the proposed alternative method would at all times guarantee no less than the same measure of protection as the existing standard.

Dated: August 9, 2007.
Jack Powasnik,
Acting Deputy Director, Office of Standards, Regulations, and Variances.

[FR Doc. E7-16022 Filed 8-14-07; 8:45 am]

BILLING CODE 4510-43-P